ENVIRONMENTAL PROTECTION AGENCY

[FRL OP-OFA-041]

Environmental Impact Statements; Notice of Availability

Responsible Agency: Office of Federal Activities, General Information 202-564-5632 or https://www.epa.gov/nepa.

Weekly receipt of Environmental Impact Statements (EIS)

Filed October 17, 2022 10 a.m. EST Through October 24, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220152, Final, USCG, ND, BNSF Railway Bridge 196.6 Project Morton and Burleigh Counties, North Dakota, Review Period Ends: 11/28/2022, Contact: Rob McCaskey 314-269-2381.

EIS No. 20220153, Draft, FERC, NC, Southside Reliability Enhancement Project, Comment Period Ends: 12/12/2022, Contact: Office of External Affairs 866-208-3372.

EIS No. 20220154, Draft Supplement, USFS, ID, Stibnite Gold Project, Comment Period Ends: 01/10/2023, Contact: Brian Harris 208-634-0784.

EIS No. 20220155, Final, BOEM, AK, Outer Continental Shelf (OCS) Alaska Region, Cook Inlet Planning Area, Oil and Gas Lease Sale 258, Review Period Ends: 11/28/2022, Contact: Casey Rowe 907-312-3788.

EIS No. 20220156, Draft, BOEM, CA, Programmatic Environmental Impact Statement for Oil and Gas Decommissioning Activities on the Pacific Outer Continental Shelf, Comment Period Ends: 12/12/2022, Contact: Richard Yarde 805-384-6379.

Amended Notice

EIS No. 20220086, Draft Supplement, NMFS, WA, The Makah Tribe Request to Hunt Gray Whales, Comment Period Ends: 11/03/2022, Contact: Grace Ferrara 206-526-6172. Revision to FR Notice Published 08/12/2022; Extending the Comment Period from 10/14/2022 to 11/03/2022.

EIS No. 20220122, Draft, CHSRA, CA, California High-Speed Rail Authority Palmdale to Burbank Project Section: Draft Environmental Impact Report/Environmental Impact Statement, Comment Period Ends: 12/01/2022, Contact: Scott Rothenberg 916-403-6936. Revision to FR Notice Published 09/02/2022; Extending the Comment Period from 11/01/2022 to 12/01/2022.

Dated: October 24, 2022.
Julie Roemele,
Acting Director, NEPA Compliance Division, Office of Federal Activities.

[FR Doc. 2022-23500 Filed 10-27-22; 8:45 am]

BILLING CODE 6560-50-P